JUDICIAL CONFERENCE OF THE UNITED STATES

Meeting of the Judicial Conference Advisory Committee on Rules of Evidence

AGENCY: Advisory Committee on Rules of Evidence, Judicial Conference of the United States.

ACTION: Notice of open meeting.

SUMMARY: The Advisory Committee on Rules of Evidence will hold a meeting on October 26-27, 2017. The meeting will be open to public observation but not participation. An agenda and supporting materials will be posted at least 7 days in advance of the meeting at: http://www.uscourts.gov/rules-policies/records-and-archives-rules-committees/agenda-books.

DATES: October 26, 2017—1:00 p.m. to 5:00 p.m.; October 27, 2017—8:30 a.m. to 4:00 p.m.

ADDRESSES: Boston College School of Law, 885 Centre Street, Newton Centre, MA 02459.

FOR FURTHER INFORMATION CONTACT: Rebecca A. Womeldorf, Rules Committee Secretary, Rules Committee Support Office, Administrative Office of the United States Courts, Washington, DC 20544, telephone (202) 502-1820.

Dated: August 28, 2017.
Rebecca A. Womeldorf,
Rules Committee Secretary.

[FR Doc. 2017-18663 Filed 9-1-17; 8:45 am]

BILLING CODE 2210-55-P